NUCLEAR REGULATORY COMMISSION

Agency Information Collection Activities: Proposed Collection; Comment Request

AGENCY: U.S. Nuclear Regulatory Commission (NRC).

ACTION: Notice of pending NRC action to submit an information collection request to the Office of Management and Budget (OMB) and solicitation of public comment.

SUMMARY: The NRC is preparing a submittal to OMB for review of continued approval of information collections under the provisions of the Paperwork Reduction Act of 1995 (44 U.S.C. Chapter 35). The NRC seeks to combine two information collections previously approved under OMB clearance numbers 3150-0003 and 3150-0057.

Information pertaining to the requirement to be submitted:

1. The title of the information collection: “DOE/NRC Forms 741 and 740M (Nuclear Material Transaction Report and Concise Note) and Associated Instructions (NUREG/BR-0006)”

2. Current OMB approval number: 3150-0003.

3. How often the collection is required: Form 741 is submitted when specified events occur (nuclear material or source material transfers, receipts, or inventory changes). Form 740M is submitted as necessary to inform the United States (U.S.) or the International Atomic Energy Agency (IAEA) of any qualifying statement or exception to any of the data contained in any of the other reporting forms required under the U.S./IAEA Safeguards Agreement.

4. Who is required or asked to report: Persons licensed to possess specified quantities of special nuclear material or source material, any licensee who imports or exports source material, and licensees of facilities on the U.S. eligible list who have been notified in writing by the Commission that they are subject to Part 75.

5. The number of annual respondents: DOE/NRC Form 741 = 398. DOE/NRC Form 740M = 15.

6. The number of hours needed annually to complete the requirement or request: 45,926.

7. Abstract: NRC is required to collect nuclear material transaction information for domestic safeguards use and to make it available to the IAEA. Licensees use Form 741 to make inventory and accounting reports for certain source or special nuclear material, or for transfer or receipt of 1 kilogram or more of source material. Licensees use Form 740M to inform the U.S. or the IAEA of any qualifying statement or exception to any of the data contained in any of the other reporting forms required under the U.S./IAEA Safeguards Agreement. These forms enable NRC to collect, retrieve, analyze, and submit the data to IAEA to fulfill its reporting responsibilities.

Submit, by February 19, 2008, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions about the information collection requirements may be directed to the NRC Clearance Officer, Margaret A. Janney (T-5 F52), U.S. Nuclear Regulatory Commission, Washington, DC 20555-0001, by telephone at 301-415-7245, or by Internet electronic mail to INFOCOLLECTS@NRC.GOV.

Dated at Rockville, Maryland, this 12th day of December 2007.
For the Nuclear Regulatory Commission.
Gregory Trussell,
Acting NRC Clearance Officer, Office of Information Services.

[FR Doc. E7-24473 Filed 12-17-07; 8:45 am]

BILLING CODE 7590-01-P